DEPARTMENT OF COMMERCE

National Oceanic and Atmospheric Administration

50 CFR Part 648

[Docket No. 200527-0147]

RIN 0648-BJ46

Fisheries of the Northeastern United States; Northeast Skate Complex; Framework Adjustment 8 and 2020-2021 Specifications; Correction

AGENCY: National Marine Fisheries Service (NMFS), National Oceanic and Atmospheric Administration (NOAA), Commerce.

ACTION: Final rule; correction.

SUMMARY: This action corrects errors in the Season 2 barndoor skate wing possession limit value specified in the SUPPLEMENTARY INFORMATION section of the final rule to implement Framework Adjustment 8 to the Northeast Skate Complex Fishery Management Plan, published in the Federal Register on April 27, 2020. This action is necessary to minimize confusion to the public, and to ensure the correct values are provided for all possession limits.

DATES: Effective June 1, 2020.

ADDRESSES: Information in the final rule published on April 27, 2020 (85 FR 23240), which includes an Environmental Assessment (EA) and other supporting documents for Framework Adjustment 8, are available via the internet at www.regulations.gov and www.nefmc.org.

FOR FURTHER INFORMATION CONTACT: Cynthia Ferrio, Fishery Policy Analyst, (978) 281-9180.

SUPPLEMENTARY INFORMATION:

Background

On April 27, 2020, we published a final rule (85 FR 23240) that implemented Framework Adjustment 8 to the Northeast skate fishery, including specifications and possession limits for fishing years 2020 and 2021. This rule published with an error.

Need for Correction

The Framework 8 final rule outlined the final possession limits for the entire skate fishery in the preamble text, in a summary table, and in changes to the regulatory text. However, within the preamble, there were two typographical errors when noting the new skate wing possession limit for barndoor skates in Season 2 of the skate wing fishery. The first error is in the text on page 23241, where the rule incorrectly indicates that the barndoor skate possession limit in the wing fishery is increasing to 1,025 lb (465 kg) in Season 2. This is incorrect, as the Season 2 possession limit before this framework was 1,025 lb (465 kg). This line should be corrected to read that the barndoor skate possession limit is increasing to 1,250 lb (567 kg) in Season 2.

The second error is also on page 23241, in the table under the subheading “Table 2—Skate Fishery Possession Limits for Fishing Years 2020 and 2021.” In the cell describing the barndoor skate wing weight possession limit for Season 2, the value in pounds (1,250 lb) is correct, but the converted value in kilograms (465 kg) is in error. The kilogram value in this table should be corrected to 567 kg.

The correct values were published in the proposed rule (85 FR 6494, February 5, 2020) for this action, and elsewhere in this final rule, including in the regulatory text. Because the errors are not in the regulatory text, there is no need for correction to the CFR.

Correction

In the Federal Register of April 27, 2020, in FR Doc. 2020-07805, beginning on page 23240, the following corrections are made:

1. On page 23241, in the second column, in the second full paragraph, “to 1,025 lb (465 kg) in Season 2” is corrected to read “to 1,250 lb (567 kg) in Season 2.”

2. On page 23241, table 2 is corrected to read as follows:

Table 2—Skate Fishery Possession Limits ** for Fishing Years 2020 and 2021
Trip type | Season | Wing weight | Whole weight | Barndoor * wing weight | Barndoor * whole weight
Northeast (NE) Multispecies, Scallop, or Monkfish Day-At-Sea (DAS) | Season 1 Season 2 | 3,000 lb, 1,361 kg 5,000 lb, 2,268 kg | 6,810 lb, 3,089 kg 11,350 lb, 5,148 kg | 750 lb, 340 kg 1,250 lb, 567 kg | 1,703 lb, 772 kg. 2,838 lb, 1,287 kg.
NE Multispecies B DAS | All Year | 220 lb, 100 kg | 500 lb, 227 kg | 0 | 0.
Non-DAS | All Year | 500 lb, 227 kg | 1,135 lb, 515 kg | 0 | 0.
Skate Bait under Letter of Authorization | All Year | 0 | 25,000 lb, 11,340 kg | 0 | 0.
* Barndoor skate possession limits are within the overall skate possession limit for each trip, not in addition to it.
** Possession limits may be modified in-season in order to prevent catch from exceeding quotas.

Classification

The NMFS Administrator, Greater Atlantic Region, has determined that this action is necessary and consistent with the Northeast Skate Complex FMP, other provisions of the Magnuson-Stevens Act, and other applicable law.

The NMFS Assistant Administrator finds good cause under 5 U.S.C. 553(b)(B) to waive prior notice and an opportunity for public comment on this action because the correct information was provided in the proposed rule, and the public had an opportunity to comment on it. This correcting amendment makes only minor, non-substantive corrections to typographical errors that included in the final rule text. It does not change operating practices in the fishery. It does not change any regulatory text. Therefore notice and comment are unnecessary and would be contrary to the public interest. Because this action makes no substantive changes and makes minor corrections, it does not constitute a substantive rule, and it is not subject to the requirement for a 30-day delay in effective date in 5 U.S.C. 553(d).

Authority: 16 U.S.C. 1801 et seq.

Dated: May 27, 2020.
Samuel D. Rauch III,
Deputy Assistant Administrator for Regulatory Programs, National Marine Fisheries Service.

[FR Doc. 2020-11743 Filed 6-1-20; 8:45 am]

BILLING CODE 3510-22-P